NUCLEAR REGULATORY COMMISSION

10 CFR Part 72

[NRC-2015-0134]

RIN 3150-AJ62

List of Approved Spent Fuel Storage Casks: Holtec International, HI-STORM Flood/Wind Multipurpose Storage System, Certificate of Compliance No. 1032, Amendment No. 0, Revision 1

AGENCY: Nuclear Regulatory Commission.

ACTION: Direct final rule; confirmation of effective date.

SUMMARY: The U.S. Nuclear Regulatory Commission (NRC) is confirming the effective date of April 25, 2016, for the direct final rule that was published in the Federal Register on September 28, 2015. This direct final rule amended the NRC's spent fuel storage regulations by revising the Holtec International (Holtec), HI-STORM (Holtec International Storage Module) Flood/Wind (FW) Multipurpose Canister Storage (MPC) Storage System listing within the “List of approved spent fuel storage casks” to add Amendment No. 0, Revision 1, to Certificate of Compliance (CoC) No. 1032. This revision corrects the CoC's expiration date (editorial change), clarifies heat load limits for helium backfill ranges, clarifies the wording for the Limiting Condition for Operation (LCO) on vent blockage, and revises the vacuum drying system heat load.

DATES: Effective date: The effective date of April 25, 2016, for the direct final rule published September 28, 2015 (80 FR 58195), is confirmed.

ADDRESSES: Please refer to Docket ID NRC-2015-0134 when contacting the NRC about the availability of information for this action. You may obtain publicly-available information related to this action by any of the following methods:

• Federal Rulemaking Web site: Go to http://www.regulations.gov and search for Docket ID NRC-2015-0134. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O-1F21, One White Flint North, 11555 Rockville Pike, Rockville, Maryland 20852.

FOR FURTHER INFORMATION CONTACT: Solomon Sahle, Office of Nuclear Material Safety and Safeguards, U.S. Nuclear Regulatory Commission, Washington, DC 20555-0001; telephone: 301-415-3781; email: Solomon.Sahle@nrc.gov.

SUPPLEMENTARY INFORMATION:

I. Discussion

On September 28, 2015 (80 FR 58195), the NRC published a direct final rule amending its regulations in § 72.214 of Title 10 of the Code of Federal Regulations by revising the Holtec HI-STORM FW MPC Storage System listing within the “List of approved spent fuel storage casks” to add Amendment No. 0, Revision 1, to CoC No. 1032. This revision corrects the CoC's expiration date (editorial change), clarifies heat load limits for helium backfill ranges, clarifies the wording for the LCO on vent blockage, and revises the vacuum drying system heat load.

II. Public Comments on Companion Proposed Rule

In the direct final rule, the NRC stated that if no significant adverse comments were received, the direct final rule would become effective on April 25, 2016. The NRC received public comments from private citizens on the companion proposed rule (80 FR 58222). Electronic copies of these comments can be obtained from the Federal Rulemaking Web site, http://www.regulations.gov, by searching for Docket ID NRC-2015-0134. The comments also are available in ADAMS under Accession Nos. ML15296A243, ML15296A241, ML15296A242, ML15299A281, ML15307A612, ML15307A615, ML15307A608, ML15307A609, ML15307A610, and ML15307A611. For the reasons discussed in more detail in Section III, “Public Comment Analysis,” of this document, none of the comments received are considered significant adverse comments.

III. Public Comment Analysis

The NRC received comments on the proposed rule, many raising multiple and overlapping issues. As explained in the September 28, 2015, direct final rule, the NRC would withdraw the direct final rule only if it received a “significant adverse comment.” This is a comment where the commenter explains why the rule would be inappropriate, including challenges to the rule's underlying premise or approach, or would be ineffective or unacceptable without a change.

In this instance, the NRC determined that none of the comments submitted on the proposed rule are significant adverse comments. The comments were either beyond the scope of this rulemaking or already addressed by the NRC staff's safety evaluation report (SER) (ADAMS Accession No. ML15124A644). The NRC has not made any changes to the direct final rule as a result of the public comments. However, the NRC is taking this opportunity to respond to the comments in an effort to clarify information about the 10 CFR part 72 CoC rulemaking process, and the limited nature of this revision.

For rulemakings amending or revising a CoC, the scope of the rulemaking is limited to the specific changes requested by the applicant in the request for the amendment or revision. Therefore, comments about the system, or spent fuel storage in general that are not applicable to the changes requested by the applicant, are outside the scope of this rulemaking. Comments about details of the particular system that is the subject of the rulemaking, but that are not being addressed by the specific changes requested, have already been resolved in prior rulemakings. Persons who have questions or concerns about prior rulemakings and the resulting final rules may consider the NRC's petition for rulemaking process under 10 CFR 2.802. Additionally, safety concerns about any NRC-regulated activity may be reported to the NRC in accordance with the guidance posted on the NRC's public Web site at http://www.nrc.gov/about-nrc/regulatory/allegations/safety-concern.html. This Web site provides information on how to notify the NRC of emergency or non-emergency issues.

The NRC identified the following issues raised in the comments, and the NRC's responses to these issues follow.

Comment 1

Two comments received from one commenter requested the NRC deny this revision request, expressing concern with the thickness of the canisters. The commenter stated that European systems have a more robust design and that NRC should require the same. The commenter expressed concern that the NRC's approval would not be protective of public health and safety.

NRC Response

The comment is out of scope for this revision. It is a general comment recommending that United States' manufacturers utilize some design features used in some European systems. The European systems cited are designed for a different application than dry cask storage systems authorized by 10 CFR 72 Subpart K, “General License for Storage of Spent Fuel at Power Reactor Sites.” The HI-STORM FW MPC Storage System was evaluated by the NRC staff to acceptably protect the public health and safety on July 14, 2011 (ADAMS Accession No. ML111950103). The Revision 1 changes were evaluated by the NRC staff to ensure that the HI-STORM FW MPC Storage System will continue to protect the public health and safety. These evaluations were performed in accordance with the NRC's existing part 72 regulations. Requests to revise the underlying part 72 requirements are beyond the scope of this revision request.

Comment 2

Two comments, which read “good”, appeared to indicate support for the rule.

NRC Response

The NRC acknowledges the comments. Because the comments appear to support the rule, the comments are not considered significant adverse comments.

Comment 3

Two commenters expressed concern regarding the vent size, stating that the vents are disproportionately small for such large casks, and poorly located. The commenters also stated that 50% blockage of the vents is unacceptable regardless of temperature, and that, instead, vents should be totally unblocked to be considered operable. The commenters also expressed concern with the protocols for vents that are not operable within 24 hours. The commenters also objected to a perceived inconsistent application of ASME code standards to the CoC.

NRC Response

The HI-STORM FW MPC Storage System design, including the vent size and location, were evaluated by the NRC staff in the initial approval (ADAMS Accession No. ML111950103). The system was ultimately determined to be acceptable because the applicant demonstrated that the system could maintain the spent nuclear fuel below regulatory limits with up to 50% blockage of the inlet and out vents for an indefinite time as long as the spent fuel storage cask heat removal system remains operable. Although this revision includes clarifying changes to the LCO vent blockage language, there are no changes in this revision that impact the underlying analysis evaluated in the initial approval. Additionally, there is no specific information in the comment that would cause the NRC to reevaluate this analysis. Therefore, this comment is not considered a significant adverse comment.

Comment 4

One commenter requested withdrawal of the revision due to concerns that the environmental assessment (EA) that accompanied the rule was inadequate. The commenter expressed concern that, because the EA for this rule tiered off of an EA performed for the 1990 rulemaking that added the general license for storage of spent fuel at power reactor sites, the EA is outdated. The commenter noted that using an outdated EA raises the question of whether the EA is valid in light of the Fukushima disaster that occurred in Japan on March 11, 2011. In addition to withdrawal of the rule, the commenter also requested that a new environmental impact assessment be commissioned, and that all current projects meet at least the minimum standards employed at Fukushima.

NRC Response

This comment is not a significant adverse comment as it fails to present any specific challenge to the EA performed in support of this rule. As noted in the comment, the NRC performed an EA in support of this revision. That EA tiered off of an earlier EA completed to support changes to the part 72 rule that added the general license provisions, but considered environmental impacts specific to this revision. Both of these EAs concluded with a finding of no significant environmental impact. This comment does not provide any specific environmental information relating to the storage of spent fuel at Fukushima that would invalidate the finding of no significant impact in this EA or the earlier EA or that would cause the NRC to reevaluate the environmental impacts associated with this revision to this CoC. Moreover, the staff is unaware of any information that would challenge the findings made in these EAs.

Comment 5

Comments were also received which neither supported nor opposed the rule, but instead, contained numerous questions about this CoC system and other similar CoC systems. Although these comments are not significant adverse comments, and in many instances fall outside the scope of this specific rulemaking, the NRC is taking this opportunity to attempt to address the questions received.

One commenter asked about temperature values included in the Appendix A Technical Specifications (TS) page 3.1.2-2. The commenter noted that a previous CoC included one temperature value as 137 degrees F, while this CoC TS identifies it as 139 degrees F, but does not reflect it as a revision. The commenter asked which temperature value is correct and the implication of the temperature difference. The commenter also asked how relevant ambient air temperature is to underground systems such as the Holtec HI-STORM UMAX system.

NRC Response

The temperature addressed in the comment is correctly listed as 139 degrees F which is applicable to CoC 1032, Amendment No. 0. This temperature was changed to 137 degrees F in CoC 1032, Amendment No. 1. The HI-STORM UMAX is a different system from the HI-STORM FW MPC Storage System and as such has a different thermal design.

Comment 6

Another commenter requested an explanation as to the vendor's statement in the application regarding additional flexibility associated with the limits to the use of vacuum drying to casks at lower heat loads.

NRC Response

In the application for this revision, the applicant contends that lowering this temperature limit provides additional conservatism (margin) that would allow the applicant the flexibility to implement some changes under the 10 CFR 72.48 process rather than through the amendment process. The NRC staff evaluated the lower temperature limit in its preliminary SER (ADAMS Accession No. ML15124A644), and found the lower limit acceptable.

Comment 7

Finally, there were several questions asked about the relationship between this revision and the HI-STORM UMAX system and/or the implications of the changes proposed here to potential uses at the San Onofre Generating Station (SONGS). Questions included whether this change addresses the impacts of using the HI-STORM FW system MPC-37 in the HI-STORM UMAX system, and whether it involves “the proposed San Onofre configuration of only installing ½ underground.” The commenter questioned what CoC is approved for use in the HI-STORM UMAX system. Another question asked was whether this change allows “MPC-37 canister thickness increases (such as a change from 0.5” to 0.625” proposed for San Onofre) without requiring a license amendment.”

NRC Response

There is no relationship between this revision and the HI-STORM UMAX system. Each system is separately reviewed and certified in accordance with 10 CFR part 72. General licensees may use the certified systems identified in 10 CFR 72.214 subject to meeting certain requirements in 10 CFR part 72. Therefore, the changes in this revision are applicable only to the HI-STORM FW MPC system, CoC No. 1032, and are not applicable to the HI-STORM UMAX system that is intended to be used at SONGS. Nothing in this revision impacts anything associated with the HI-STORM UMAX system; therefore, this revision does not impact the thickness of the canisters in the HI-STORM UMAX system, or the placement of the UMAX system. Additionally, although this rule is a revision to the HI-STORM FW MPC system, nothing in this revision impacts the thickness of the canisters in the HI-STORM FW MPC system.

For these reasons, the NRC staff has concluded that the comments received on the companion proposed rule for the Holtec HI-STORM FW MPC Storage System listing within the “List of approved spent fuel storage casks” to add Amendment No. 0, Revision 1, to CoC No. 1032, are not significant adverse comments as defined in NUREG/BR-0053, Revision 6, “United States Nuclear Regulatory Commission Regulations Handbook” (ADAMS Accession No. ML052720461). Therefore, this rule will become effective as scheduled.

Dated at Rockville, Maryland, this 31st day of December 2015.
For the Nuclear Regulatory Commission.
Cindy Bladey,
Chief, Rules, Announcements, and Directives Branch, Division of Administrative Services, Office of Administration.

[FR Doc. 2016-00163 Filed 1-8-16; 8:45 am]

BILLING CODE 7590-01-P